DEPARTMENT OF HOMELAND SECURITY

Federal Emergency Management Agency

44 CFR Part 64

Communities Eligible for the Sale of Insurance

CFR Correction

In Title 44 of the Code of Federal Regulations, revised as of October 1, 2006, on page 339, in § 64.4, paragraph (b), in the fourth sentence, remove the words “within the newly-month period,” and add the words “within the newly-acquired area the requirements of § 60.3(b) of this subchapter. During the six month period,” in their place.

[FR Doc. 07-55516 Filed 9-27-07; 8:45 am]

BILLING CODE 1505-01-D